DEPARTMENT OF DEFENSE

Department of the Air Force

HQ USAF Scientific Advisory Board; Notice of Meeting

AGENCY: Department of the Air Force, HQ USAF Scientific Advisory Board.

ACTION: Notice of meeting.

SUMMARY: Pursuant to Public Law 92-463, notice is hereby given of the forthcoming meeting of the Air Force Scientific Advisory Board. The purpose of the meeting is to present the findings/results of the FY 2006 Technology Options for Improved Air Vehicle Fuel Efficiency quick look study to the assembled SAB. Because contractor-proprietary information will be discussed, this meeting will be closed to the public.

DATES: April 10, 2006.

ADDRESSES: 221 N. Rampart Boulevard, Las Vegas, NV 89145.

FOR FURTHER INFORMATION CONTACT: Lt Col Kyle Gresham, Air Force Scientific Advisory Board Secretariat, 1180 Air Force Pentagon, Rm 5D982, Washington DC 20330-1180, (703) 697-4811.

Bao-Anh Trinh,
Air Force Federal Register Liaison Officer.

[FR Doc. E6-4263 Filed 3-23-06; 8:45 am]

BILLING CODE 5001-05-P